DEPARTMENT OF LABOR

Employment and Training Administration

[TA-W-55,843]

Ancon Tool and Die, a Subsidiary of H.E. Services, Saginaw, MI; Notice of Termination of Investigation

Pursuant to Section 221 of the Trade Act of 1974, as amended, an investigation was initiated on October 21, 2004 in response to a petition filed by a state agency representative on behalf of workers at Ancon Tool and Die, a subsidiary of H.E. Services, Saginaw, Michigan.

The petitioner has requested that the petition be withdrawn. Consequently, the investigation has been terminated.

Signed at Washington, DC this 23rd day of November, 2004.
Richard Church,
Certifying Officer, Division of Trade Adjustment Assistance.

[FR Doc. E4-3582 Filed 12-8-04; 8:45 am]

BILLING CODE 4510-30-P